DEPARTMENT OF COMMERCE

International Trade Administration

[A-489-829, A-588-876]

Steel Concrete Reinforcing Bar From the Republic of Turkey and Japan: Amended Final Affirmative Antidumping Duty Determination for the Republic of Turkey and Antidumping Duty Orders

AGENCY: Enforcement and Compliance, International Trade Administration, Department of Commerce.

SUMMARY: Based on affirmative final determinations by the Department of Commerce (the Department) and the International Trade Administration (ITC), the Department is issuing antidumping duty (AD) orders on steel concrete reinforcing bar (rebar) from the Republic of Turkey (Turkey) and Japan. In addition, the Department is amending its affirmative final determination for Turkey to correct ministerial errors.

DATES: July 14, 2017.

FOR FURTHER INFORMATION CONTACT: Myrna Lobo or Alex Cipolla at (202) 482-2371 and (202) 482-4956, respectively (Turkey), or David Lindgren at (202) 482-3870 (Japan), AD/CVD Operations, Office VII, Enforcement and Compliance, International Trade Administration, Department of Commerce, 1401 Constitution Avenue NW., Washington, DC 20230.

SUPPLEMENTARY INFORMATION:

Background

In accordance with sections 735(d) and 777(i)(1) of the Tariff Act of 1930, as amended (the Act) and 19 CFR 351.210(c), the Department published its affirmative final determinations in the less-than-fair-value (LTFV) investigations of rebar from Turkey and Japan.¹ On June 30, 2017, the ITC notified the Department of its final determination that an industry in the United States is materially injured by reason of LTFV imports of subject merchandise from Turkey and Japan within the meaning of 705(b)(1)(A)(i) of the Act.²

¹ See Steel Concrete Reinforcing Bar From the Republic of Turkey: Final Determination of Sales at Less Than Fair Value, 82 FR 23192 (May 22, 2017) (Turkey Final Determination); see also Steel Concrete Reinforcing Bar From Japan: Final Affirmative Determination of Sales at Less Than Fair Value, 82 FR 23195 (May 22, 2017) (Japan Final Determination).

² See Letter from the ITC to the Honorable Ronald Lorentzen, June 30, 2017 (Notification of ITC Final Determination); see also Steel Concrete Reinforcing Bar from Japan and Turkey, Investigation Nos. 701-TA-564 and 731-TA-1388 and 1340 (Final) (June 2017).

Scope of the Orders

The product covered by these orders is rebar from Turkey and Japan. For a complete description of the scope of the orders, see the Appendix to this notice.

Amendment to Turkey Final Determination

On May 22, 2017, the Rebar Trade Action Coalition and its individual members,³ (collectively, the petitioners) alleged that the Department made various ministerial errors in the Turkey Final Determination with regard to the gross unit price and downstream sales used in the margin calculation for respondent Icdas Celik Enerji Tersane ve Ulasim Sanayi A.S. (Icdas).⁴ On the same day, respondent Habaş Sinai ve Tibbi Gazlar Istihsal Endüstrisi A.Ş. (Habas) timely alleged that the Department made a ministerial error in the AD cash deposit rate assigned to Habas by not offsetting for export subsidies from the concurrent countervailing duty (CVD) investigation.⁵ Icdas also made an untimely filing.⁶ In addition, the Government of the Republic of Turkey (GOT) submitted a letter requesting the Department to take into consideration respondent companies concerns.⁷ On June 13, 2017, the Department rejected Icdas' untimely filed ministerial error allegation, along with all submissions that commented on, or rebutted it.⁸ At the request of the Department, the petitioners refiled theirits rebuttal comments to exclude comments on Icdas since that filing was removed from the record.⁹

³ The Rebar Trade Action Coalition is comprised of Byer Steel Group, Inc., Commercial Metals Company, Gerdau Ameristeel U.S. Inc., Nucor Corporation, and Steel Dynamics, Inc.

⁴ See Petitioner's 5/22/2017 Letter, “Steel Concrete Reinforcing Bar from the Republic of Turkey; Clerical Error Submission for the Final Determination,” (May 22, 2017).

⁵ See Habas' 5/22/2017 Letter, “Steel Concrete Reinforcing Bar from Turkey; Habas: Request for correction of ministerial error,” (May 22, 2017).

⁶ See Department's 6/12/2017 Letter, “Steel Concrete Reinforcing Bar from the Republic of Turkey: Icdas' Ministerial Errors & Request to File out of Time,” (June 12, 2017).

⁷ See GOT's 5/22/2017 Letter, “Final Determination in the Antidumping Duty Investigation of Steel Concrete Reinforcing Bar from the Republic of Turkey,” (May 22, 2017).

⁸ See Memorandum, “Steel Concrete Reinforcing Bar from the Republic of Turkey: Reject and Delete Untimely Submissions from Interested Parties,” (June 13, 2017).

⁹ See Petitioner's 6/14/2017 Letter, “Steel Concrete Reinforcing Bar from the Republic of Turkey: Reply to Ministerial Error Submission,” (June 14, 2017).

A ministerial error is defined as an error in addition, subtraction, or other arithmetic function, clerical error resulting from inaccurate copying, duplication, or the like, and any other similar type of unintentional error which the Department considers ministerial.¹⁰

¹⁰ See section 705(e) of the Act.

The Department reviewed the record and agrees that certain errors identified by the petitioner with respect to Icdas constitute ministerial errors within the meaning of section 735(e) of the Act and 19 CFR 351.224(f).¹¹ Therefore, pursuant to 19 CFR 351.224(e), the Department is amending the Turkey Final Determination to reflect the correction of these ministerial errors in the calculation of the final margin assigned to Icdas.¹² In addition, because the “all-others” rate is based on the margins for Habas and Icdas,¹³ we are revising the “all-others” rate.¹⁴

¹¹ See Memorandum, “Amended Final Determination of the Antidumping Duty Investigation: Allegations of Ministerial Errors,” July 7, 2017 (Ministerial Error Memorandum) (providing a detailed discussion of the alleged ministerial errors).

¹² See Ministerial Error Memorandum at 3.

¹³ See Turkey Final Determination, 82 FR at 23193 (explaining the Department's methodology for calculating the “all-others” rate in this investigation).

¹⁴ See Memorandum “Amended Final Determination Calculation for the “All-Others” Rate,” dated July 7, 2017 (Amended All-Others Rate Memorandum).

Antidumping Duty Orders

In accordance with section 735(d) of the Act, the ITC notified the Department of its final determinations in these investigation, in which it found that an industry in the United States is materially injured by reason of imports of rebar from Turkey and Japan. Therefore, in accordance with section 735(c)(2) of the Act, we are issuing these antidumping duty orders. Because the ITC determined that imports of rebar from Turkey and Japan are materially injuring a U.S. industry, unliquidated entries of such merchandise from Turkey and Japan, entered or withdrawn from warehouse for consumption, are subject to the assessment of antidumping duties.

Therefore, in accordance with section 736(a)(1) of the Act, the Department will direct U.S. Customs and Border Protection (CBP) to assess, upon further instruction by the Department, antidumping duties equal to the amount by which the normal value of the merchandise exceeds the export price (or constructed export price) of the merchandise, for all relevant entries of rebar from Turkey and Japan. Antidumping duties will be assessed on unliquidated entries of rebar from Turkey and Japan entered, or withdrawn from warehouse, for consumption on or after March 7, 2017, the date of publication of the Preliminary Determinations.¹⁵

¹⁵ See Steel Concrete Reinforcing Bar From the Republic of Turkey: Preliminary Affirmative Determination of Sales at Less Than Fair Value, 82 FR 12791 (March 7, 2017); see also Steel Concrete Reinforcing Bar From Japan: Preliminary Affirmative Determination of Sales at Less Than Fair Value, 82 FR 12796 (March 7, 2017).

Continuation of Suspension of Liquidation

In accordance with section 735(c)(1)(B) of the Act, the Department will instruct CBP to continue to suspend liquidation of all relevant entries of rebar from Turkey and Japan, effective the date of publication of the ITC's notice of final determination in the Federal Register. These instructions suspending liquidation will remain in effect until further notice.

The Department will also instruct CBP to require cash deposits equal to the amounts as indicated below, which are adjusted for certain countervailable export subsidies, where appropriate, effective the date of publication of the ITC's final determination in the Federal Register. The relevant all-others rates apply to all producers or exporters not specifically listed below.

Estimated Weighted-Average Dumping Margins

The weighted-average antidumping duty margin percentages are as follows:

¹⁶ See Ministerial Error Memorandum; see also Memorandum “Amended Final Determination Margin Calculation for Icdas Celik Enerji Tersane ve Ulasim Sanayi A.S.” dated July 7, 2017; see also Amended All-Others Rate Memorandum.

| Exporter/producer | Weighted- average dumping margins (%) | Cash-deposit rate (adjusted for export subsidies) ¹⁶ (%)
Turkey | Habas Sinai ve Tibbi Gazlar Istihsal Endustrisi A.S Icdas Celik Enerji Tersane ve Ulasim Sanayi A.S All-Others | 5.39 9.06 7.43 | 5.25 8.89 7.26

| Exporter/producer | Weighted- average dumping margins (%)
Japan | Jonan Steel Corporation Kyoei Steel Ltd All-Others | 209.46 209.46 206.43

Notification to Interested Parties

This notice constitutes the antidumping orders with respect to rebar from Turkey and Japan, pursuant to section 736(a) of the Act. Interested parties can find a list of antidumping duty orders currently in effect at http://enforcement.trade.gov/stats/iastats1.html.

These orders are issued and published in accordance with section 736(a) of the Act and 19 CFR 351.211(b).

Dated: July 10, 2017.
Gary Taverman,
Deputy Assistant Secretary for Antidumping and Countervailing Duty Operations, Performing the non-exclusive functions and duties of the Assistant Secretary for Enforcement and Compliance.

Appendix

Scope of the Orders

The merchandise subject to these orders is steel concrete reinforcing bar imported in either straight length or coil form (rebar) regardless of metallurgy, length, diameter, or grade or lack thereof. Subject merchandise includes deformed steel wire with bar markings (e.g., mill mark, size, or grade) and which has been subjected to an elongation test.

The subject merchandise includes rebar that has been further processed in the subject countries or a third country, including but not limited to cutting, grinding, galvanizing, painting, coating, or any other processing that would not otherwise remove the merchandise from the scope of these orders if performed in the country of manufacture of the rebar.

Specifically excluded are plain rounds (i.e., nondeformed or smooth rebar). Also excluded from the scope is deformed steel wire meeting ASTM A1064/A1064M with no bar markings (e.g., mill mark, size, or grade) and without being subject to an elongation test.

The subject merchandise is classifiable in the Harmonized Tariff Schedule of the United States (HTSUS) primarily under item numbers 7213.10.0000, 7214.20.0000, and 7228.30.8010. The subject merchandise may also enter under other HTSUS numbers including 7215.90.1000, 7215.90.5000, 7221.00.0017, 7221.00.0018, 7221.00.0030, 7221.00.0045, 7222.11.0001, 7222.11.0057, 7222.11.0059, 7222.30.0001, 7227.20.0080, 7227.90.6030, 7227.90.6035, 7227.90.6040, 7228.20.1000, and 7228.60.6000.

HTSUS numbers are provided for convenience and customs purposes; however, the written description of the scope remains dispositive.

[FR Doc. 2017-14802 Filed 7-13-17; 8:45 am]

BILLING CODE 3510-DS-P